DEPARTMENT OF TRANSPORTATION

Federal Railroad Administration

[Docket No. FRA-2022-0002-N-14]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) abstracted below to the Office of Management and Budget (OMB) for review and comment. The ICR describes the information collection and its expected burden. On April 28, 2022, FRA published a notice providing a 60-day period for public comment on the ICR.

DATES: Interested persons are invited to submit comments on or before August 24, 2022.

ADDRESSES: Written comments and recommendations for the proposed ICR should be sent within 30 days of publication of this notice to www.reginfo.gov/public/do/PRAMain. Find the particular ICR by selecting “Currently under 30-day Review—Open for Public Comments” or by using the search function.

FOR FURTHER INFORMATION CONTACT: Ms. Hodan Wells, Information Collection Clearance Officer, at email: Hodan.Wells@dot.gov or telephone: (202) 868-9412.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On April 28, 2022, FRA published a 60-day notice in the Federal Register soliciting comment on the ICR for which it is now seeking OMB approval. See 87 FR 25346. FRA received no comments related to the proposed collection of information.

Before OMB decides whether to approve the proposed collection of information, it must provide 30 days for public comment. Federal law requires OMB to approve or disapprove paperwork packages between 30 and 60 days after the 30-day notice is published. 44 U.S.C. 3507(b)-(c); 5 CFR 1320.12(a); see also 60 FR 44978, 44983 (Aug. 29, 1995). OMB believes the 30-day notice informs the regulated community to file relevant comments and affords the agency adequate time to digest public comments before it renders a decision. 60 FR 44983 (Aug. 29, 1995). Therefore, respondents should submit their respective comments to OMB within 30 days of publication to best ensure having their full effect.

Comments are invited on the following ICR regarding: (1) whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Positive Train Control (PTC) and Other Signal Systems.

OMB Control Number: 2130-0553.

Abstract: On November 15, 2021, President Joseph R. Biden signed into law the Infrastructure Investment and Jobs Act (IIJA).¹ Section 22414 of the IIJA impacts FRA's existing Form FRA F 6180.152, the Biannual Report of PTC System Performance, which is one part of the existing information collection request under OMB Control No. 2130-0553. Section 22414 of the IIJA establishes the same reporting requirement as FRA's existing regulations, using the same FRA form number (Form FRA F 6180.152) and content requirements. 49 U.S.C. 20157(m); 49 CFR 236.1029(h). However, the statutory reporting cadence is quarterly, not biannual as FRA's regulations currently require.

¹ Infrastructure Investment and Jobs Act, Public Law 117-58, 135 Stat. 429 (Nov. 15, 2021). The IIJA was funded in relevant part by the Consolidated Appropriations Act of 2022, which was signed into law on March 15, 2022.

During a recent rulemaking, FRA collected public comment on this FRA reporting requirement. See 85 FR 82400 (Dec. 18, 2020) (Notice of Proposed Rulemaking); 86 FR 40154 (July 27, 2021) (Final Rule) (amending 49 CFR 236.1029(h) and creating Form FRA F 6180.152). During the comment period, FRA received comments from the following entities and two individuals, which were all generally supportive: the American Public Transportation Association; the Association of American Railroads and the American Short Line and Regional Railroad Association (jointly filed); the National Railroad Passenger Corporation (Amtrak); and New Jersey Transit.

Feedback from the public and industry has already been incorporated into the existing Form FRA F 6180.152 that OMB approved in October 2021. See 49 CFR 236.1029(h). The substance of the form remains unchanged in light of the statutory requirements IIJA imposes, as the content required by FRA's existing regulations and Section 22414 of the IIJA is identical in substance. To implement Section 22414 of the IIJA, as codified at 49 U.S.C. 20157(m), the existing OMB-approved Form FRA F 6180.152 would need to be modified only to refer to the new quarterly reporting frequency.

Accordingly, FRA is hereby proposing to modify Form FRA F 6180.152 to align with the statutory quarterly framework under 49 U.S.C. 20157(m). The modified form would refer to the following quarterly reporting deadlines under 49 U.S.C. 20157(m)(3): April 30 (covering the period from January 1 to March 31), July 31 (covering the period from April 1 to June 30), October 31 (covering the period from July 1 to September 30), and January 31 (covering the period from October 1 to December 31 of the prior calendar year). See 49 U.S.C. 20157(m)(3). To be clear, in the interim, before OMB approves these statutory modifications to Form FRA F 6180.152, host railroads would continue to comply with the following biannual reporting deadlines for Form FRA F 6180.152 under FRA's existing regulations, 49 CFR 236.1029(h)(3): July 31 (covering the period from January 1 to June 30), and January 31 (covering the period from July 1 to December 31 of the prior calendar year). Railroads would transition to the quarterly frequency once OMB approves the modified Form FRA F 6180.152.

The only other modification FRA proposes to make to Form FRA F 6180.152 is to lock the formatting of instructions and headings in the form so users cannot manipulate those components of the form. FRA is placing the proposed, modified Form FRA F 6180.152 in Docket No. FRA-2022-0002 for review and interested persons are invited to submit comments on or before August 24, 2022.

For a detailed discussion regarding the reporting metrics in the proposed Quarterly Report of PTC System Performance (Form FRA F 6180.152), please see FRA's Final Rule outlining the comments received and corresponding content requirements under 49 CFR 236.1029(h). See 86 FR 40154, 40157-59, 40163-68 (July 27, 2021); see also 49 U.S.C. 20157(m). FRA may not alter the existing reporting requirements in Form FRA F 6180.152 as they are now statutorily mandated. As a reminder, modified Form FRA F 6180.152 would be identical in substance to existing, OMB-approved Form FRA F 6180.152 (Biannual Report of PTC System Performance) that the public commented on during the 2020-2021 PTC rulemaking. See 85 FR 82400 (Dec. 18, 2020) (Notice of Proposed Rulemaking); 86 FR 40154 (July 27, 2021) (Final Rule). The only material changes to Form FRA F 6180.152 FRA is proposing are those necessary to shift from the biannual framework under FRA's regulations, 49 CFR 236.1029(h), to the new quarterly framework under 49 U.S.C. 20157(m)(3).

Under the currently approved biannual framework, FRA estimated that each performance report (Form FRA F 6180.152), covering a six-month period, would take 48 hours to prepare. See 86 FR at 40169-71. Under the new statutory quarterly framework, FRA estimates that, on average, each report, covering a shorter period (three months), would take 32 hours to prepare. This estimate is based on the fact that under the quarterly framework, the reporting period would be half as long and, correspondingly, it would take approximately half as long (i.e., 24 hours) to compile the performance-related data for that period, plus an additional 8 hours to account for any additional administrative burdens in completing the form. Railroads will collect, analyze, and report 365 days' worth of data about their PTC systems' performance under either reporting framework (biannual or quarterly), and FRA estimates that shifting the frequency from biannual (under the existing regulation) to quarterly (under the recent legislation) would result in an increase of 73 reports per year and a burden increase of 1,168 hours total.

In addition, FRA notes that the Statutory Notification of PTC System Failures (Form FRA F 6180.177) expired by law on December 31, 2021, so FRA proposes to remove that form from this information collection request. See 49 U.S.C. 20157(j). That adjustment would result in a decrease of 144 reports per year and a burden decrease of 144 hours.

Type of Request: Revision to a currently approved collection.

Affected Public: Businesses.

Form(s): FRA F 6180.152.

Respondent Universe: 742 railroads and entities.

Frequency of Submission: On occasion.

Total Estimated Annual Responses: 4,567,826.

Total Estimated Annual Burden: 51,993 hours.

Total Estimated Annual Burden Hour Dollar Cost Equivalent: $4,329,155.

FRA informs all interested parties that it may not conduct or sponsor, and a respondent is not required to respond to, a collection of information that does not display a currently valid OMB control number.

Authority: 44 U.S.C. 3501-3520; 49 U.S.C. 20157.

Brett A. Jortland,
Deputy Chief Counsel.

[FR Doc. 2022-15810 Filed 7-22-22; 8:45 am]

BILLING CODE 4910-06-P